DEPARTMENT OF HEALTH AND HUMAN SERVICES

Health Resources and Services Administration

National Vaccine Injury Compensation Program List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

2112(b)(2) of the PHS Act, 42 U.S.C. 300aa-12(b)(2), requires that “[w]ithin 30 days after the Secretary receives service of any petition filed under section 2111 the Secretary shall publish notice of such petition in the Federal Register.” Set forth below is a list of petitions received by HRSA on June 1, 2020, through June 30, 2020. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Thomas J. Engels,
Administrator.

List of Petitions Filed

1. David Hall, Franklin, North Carolina, Court of Federal Claims No: 20-0663V

2. Jonathan Gussler, Ashland, Kentucky, Court of Federal Claims No: 20-0664V

3. Dwayne Lee, St. Louis, Missouri, Court of Federal Claims No: 20-0665V

4. Valerie Murphy, Clovis, California, Court of Federal Claims No: 20-0666V

5. Sameer Patel, Phoenix, Arizona, Court of Federal Claims No: 20-0667V

6. Tracy Brienen, Chicago, Illinois, Court of Federal Claims No: 20-0668V

7. Natalie Ann Springer on behalf of G. H. S., Portland, Oregon, Court of Federal Claims No: 20-0669V

8. Richard Jaye, Sterling Heights, Michigan, Court of Federal Claims No: 20-0672V

9. Charles Richardson, Mokena, Illinois, Court of Federal Claims No: 20-0674V

10. Cristhian Berrios, Boston, Massachusetts, Court of Federal Claims No: 20-0675V

11. Laura Schram, Madison, Wisconsin, Court of Federal Claims No: 20-0676V

12. Stanley Romanek, Loveland, Colorado, Court of Federal Claims No: 20-0677V

13. Heather Shaffer, Mariette, Wisconsin, Court of Federal Claims No: 20-0678V

14. Alice B. Fields, Henderson, North Carolina, Court of Federal Claims No: 20-0679V

15. Jeff Kleinschmidt, Westminster, Colorado, Court of Federal Claims No: 20-0680V

16. Lauren Kapranci on behalf of D. T., Westlake, Ohio, Court of Federal Claims No: 20-0681V

17. Gail McNulty, Pembroke, Massachusetts, Court of Federal Claims No: 20-0683V

18. Jamie Guy, Buda, Texas, Court of Federal Claims No: 20-0684V

19. Anatoliy Chudnoviskiy, Furlong, Pennsylvania, Court of Federal Claims No: 20-0685V

20. Elizabeth Brown, Big Stone Gap, Virginia, Court of Federal Claims No: 20-0687V

21. Nazareth June Lajon, Levittown, Puerto Rico, Court of Federal Claims No: 20-0689V

22. Newbery Frias on behalf of N. D., Dallas, Texas, Court of Federal Claims No: 20-0690V

23. Michael Keller, Sarasota, Florida, Court of Federal Claims No: 20-0693V

24. Raymond Zalewski, Cromwell, Connecticut, Court of Federal Claims No: 20-0694V

25. Robert Willis on behalf of A. W., Louisville, Ohio, Court of Federal Claims No: 20-0695V

26. Charlene Pressley, Davenport, Iowa, Court of Federal Claims No: 20-0698V

27. Kiley Logan, Ankeny, Iowa, Court of Federal Claims No: 20-0699V

28. Joy Adams, Roaring Springs, Pennsylvania, Court of Federal Claims No: 20-0703V

29. Donna Jackson, University Heights, Ohio, Court of Federal Claims No: 20-0705V

30. Sharie Elise Lewis, Sandy, Utah, Court of Federal Claims No: 20-0707V

31. Karen Belanger, Salem, New Hampshire, Court of Federal Claims No: 20-0708V

32. Floraida Martinez on behalf of M. M., East Stroudsburg, Pennsylvania, Court of Federal Claims No: 20-0709V

33. Richard P. Bures, New Bedford, Massachusetts, Court of Federal Claims No: 20-0713V

34. John Franklin Metzger, Jacksonville, Florida, Court of Federal Claims No: 20-0714V

35. Frank Poleto, Colonie, New York, Court of Federal Claims No: 20-0718V

36. Ruth Hardiman, Huntington, West Virginia, Court of Federal Claims No: 20-0719V

37. Herbert Degan, III, Sewall, New Jersey, Court of Federal Claims No: 20-0720V

38. Kristie Wisenbaker, Cleburne, Texas, Court of Federal Claims No: 20-0721V

39. Martha Klug, Madison, Wisconsin, Court of Federal Claims No: 20-0722V

40. Emma Patricia Hernandez, El Paso, Texas, Court of Federal Claims No: 20-0723V

41. Stacy Hospes, Oswego, Illinois, Court of Federal Claims No: 20-0725V

42. Tanya Jean Potkonjak, Puyallup, Washington, Court of Federal Claims No: 20-0726V

43. Richard Stenger, Eureka, California, Court of Federal Claims No: 20-0727V

44. Carlington Keith Myers, Columbia, South Carolina, Court of Federal Claims No: 20-0729V

45. Meredith Turner, Milwaukee, Wisconsin, Court of Federal Claims No: 20-0730V

46. Horace Knowlton, New Port Richey, Florida, Court of Federal Claims No: 20-0731V

47. Jackilyn Davis, Reading, Pennsylvania, Court of Federal Claims No: 20-0732V

48. Barbara Glover, Cullman, Alabama, Court of Federal Claims No: 20-0736V

49. Jeffrey Bello and Oksana Y. Oganesov on behalf of C. J. B., Atlantic City, New Jersey, Court of Federal Claims No: 20-0739V

50. Sylvia Rowe, Rochester, New York, Court of Federal Claims No: 20-0740V

51. Randall Bazell, Ironton, Ohio, Court of Federal Claims No: 20-0742V

52. Donna Gilbert, Allentown, Pennsylvania, Court of Federal Claims No: 20-0744V

53. Lindy Sells, River Ridge, Louisiana, Court of Federal Claims No: 20-0745V

54. Douglas Miller, Washington, District of Columbia, Court of Federal Claims No: 20-0747V

55. Melissa Schnell, Washington, District of Columbia, Court of Federal Claims No: 20-0748V

56. Evans Manes, Mount Kisco, New York, Court of Federal Claims No: 20-0754V

57. Camille Jefferson, Columbus, Georgia, Court of Federal Claims No: 20-0756V

58. Mary Ann Hatlelid, Richmond, Virginia, Court of Federal Claims No: 20-0759V

59. Sarah Easton, Carmel, Indiana, Court of Federal Claims No: 20-0760V

60. Geraldine Talley, Holly Springs, Mississippi, Court of Federal Claims No: 20-0761V

61. Kediala Magassouba, New York City, New York, Court of Federal Claims No: 20-0762V

62. James Sokol, Seattle, Washington, Court of Federal Claims No: 20-0763V

63. Joanie Arseneault, Melbourne, Florida, Court of Federal Claims No: 20-0765V

64. Gregory Carter, Raleigh, North Carolina, Court of Federal Claims No: 20-0767V

65. Destiny Maynard and Elijah Bunch on behalf of C. B., Deceased, East Moline, Illinois, Court of Federal Claims No: 20-0768V

66. Candice E. Hutchison, Belfast, Maine, Court of Federal Claims No: 20-0773V

67. Kelly Steele, Baltimore, Maryland, Court of Federal Claims No: 20-0775V

68. Lorraine Ferrucci on behalf of J. B., Orchard Park, New York, Court of Federal Claims No: 20-0776V

69. Lisa Black, St. Paul, Minnesota, Court of Federal Claims No: 20-0777V

70. Sharon Danberry, Mankato, Minnesota, Court of Federal Claims No: 20-0778V

71. Brianna Meyers, Albany, New York, Court of Federal Claims No: 20-0779V

72. Sandra Francis, Leesburg, Florida, Court of Federal Claims No: 20-0780V

73. Renee Byndloss, Chicago, Illinois, Court of Federal Claims No: 20-0781V

74. Juliet Wolf, Dresher, Pennsylvania, Court of Federal Claims No: 20-0782V

75. Larry Alex Klickstein, Pasadena, California, Court of Federal Claims No: 20-0785V

76. Antonios Tsamasiros, Rockaway Beach, New York, Court of Federal Claims No: 20-0786V

77. Patricia Parks, White Plains, New York, Court of Federal Claims No: 20-0788V

78. Cheree Roach and Jason Roach on behalf of I. R., Eagle River, Alaska, Court of Federal Claims No: 20-0789V

79. Jacqueline Stokes, Chicago, Illinois, Court of Federal Claims No: 20-0790V

80. Niberley Walton, Fort Belvoir, Virginia, Court of Federal Claims No: 20-0791V

81. Adam Smith, San Antonio, Texas, Court of Federal Claims No: 20-0794V

82. Nydia Ellentuch, Saint Cloud, Florida, Court of Federal Claims No: 20-0795V

83. Julie Leibold, Blue Springs, Missouri, Court of Federal Claims No: 20-0796V

84. Keri H. Daigle, Richmond, Virginia, Court of Federal Claims No: 20-0797V

[FR Doc. 2020-15830 Filed 7-21-20; 8:45 am]

BILLING CODE 4165-15-P